DEPARTMENT OF AGRICULTURE

Forest Service

Shasta County Resource Advisory Committee

AGENCY: Forest Service, USDA.

ACTION: Notice of meeting.

SUMMARY: The Shasta County Resource Advisory Committee (RAC) will meet in Redding, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meeting is open to the public. The purpose of the June 29th meeting is review project presentations and vote on project proposals. The purpose of the September 7th meeting is to discuss project updates and proposals, and information on monitoring efforts. Any remaining projects will be voted on in this meeting. The purpose of the November 30th meeting is to discuss project updates, field trips, monitoring efforts, and accounting.

DATES: The meetings will be held Wednesday, June 29; Wednesday, September 7th; and Wednesday, November 30. All meetings will start at 8:30 a.m.

ADDRESSES: The meetings will be held at the USDA Service Center, 3644 Avtech Parkway, Redding, California 96002. Written comments may be submitted as described under Supplementary Information.

FOR FURTHER INFORMATION CONTACT: Donna Harmon, Resource Advisory Committee Designated Federal Official, at (530) 226-2335 or dharmon@fs.fed.us. Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION.

SUPPLEMENTARY INFORMATION: The meeting is open to the public. Public input sessions will be provided and individuals will have the opportunity to address the Shasta County Resource Advisory Committee.

Dated: May 12, 2011.
J. Sharon Heywood,
Forest Supervisor, Shasta-Trinity National Forest.

[FR Doc. 2011-12574 Filed 5-20-11; 8:45 am]

BILLING CODE P